DEPARTMENT OF TRANSPORTATION

Pipeline and Hazardous Materials Safety Administration

49 CFR Parts 192, 193, and 195

[Docket No. PHMSA-2011-0337; Amdt. Nos. 192-119; 193-25; 195-99]

RIN 2137-AE85

Pipeline Safety: Periodic Updates of Regulatory References to Technical Standards and Miscellaneous Amendments; Corrections

AGENCY: Pipeline and Hazardous Materials Safety Administration (PHMSA), Department of Transportation (DOT).

ACTION: Correcting amendments.

SUMMARY: PHMSA published in the Federal Register of January 5, 2015 (80 FR 168), a document containing revisions to the Pipeline Safety Regulations. That document inadvertently removed paragraphs (b)(1) through (b)(4) in 49 CFR 192.153. This document removes that amendment and makes several editorial changes.

DATES: This amendment is effective August 6, 2015.

FOR FURTHER INFORMATION CONTACT: Technical Information: Mike Israni by phone at 202-366-4571 or by email at mike.israni@dot.gov.

Regulatory Information: Cheryl Whetsel by phone at 202-366-4431 or by email at cheryl.whetsel@dot.gov.

SUPPLEMENTARY INFORMATION: PHMSA published in the Federal Register of January 5, 2015 (80 FR 168), a document containing revisions to the Pipeline Safety Regulations. That document inadvertently removed paragraphs (b)(1) through (b)(4) in 49 CFR 192.153; incorrectly listed a cross-reference in § 193.2321(b)(1); incorrectly formatted the word “see” in various sections in parts 192, 193, and 195; and specified an incorrect authority citation in part 193. This document corrects the final regulations to address these issues.

List of Subjects

49 CFR Part 192

Incorporation by reference, Natural gas, Pipeline safety.

49 CFR Part 193

Incorporation by reference, Liquefied natural gas, Pipeline safety.

49 CFR Part 195

Anhydrous ammonia, Carbon dioxide, Incorporation by reference, Petroleum pipeline safety.

In consideration of the foregoing, PHMSA amends 49 CFR parts 192, 193, and 195 as follows:

PART 192—TRANSPORTATION OF NATURAL AND OTHER GAS BY PIPELINE: MINIMUM FEDERAL SAFETY STANDARDS

1. The authority citation for part 192 is revised to read as follows:

Authority: 49 U.S.C. 5103, 60102, 60104, 60108, 60109, 60110, 60113, 60116, 60118 and 60137; and 49 CFR 1.53.

§ 192.55, 192.191, 192.735, 192.923, 192.933, and Appendix B to Part 192 [Amended]

2. In 49 CFR part 192, remove “(incorporated by reference, see § 192.7)” and add in its place “(incorporated by reference, see § 192.7)” everywhere it appears in the following sections:

a. Section 192.55(e);

b. Section 192.735(b);

c. Section 192.923(b)(1);

d. Section 192.933(d)(1)(i); and

e. Appendix B to part 192.

§ 192.11 [Amended]

3. In § 192.11:

a. Amend paragraph (a) by removing “NFPA 58 and 59” and adding in its place “NFPA 58 and NFPA 59”.

b. Amend paragraph (c) by removing “NFPA 58 and 59” and “ANSI/NFPA 58 and 59” and adding in their place the terms “NFPA 58 and NFPA 59”.

4. In § 192.153, paragraphs (b)(1), (2), (3), and (4) are added to read as follows:

§ 192.153 Components fabricated by welding.

* * * * *

(b) * * *

(1) Regularly manufactured butt-welding fittings.

(2) Pipe that has been produced and tested under a specification listed in appendix B to this part.

(3) Partial assemblies such as split rings or collars.

(4) Prefabricated units that the manufacturer certifies have been tested to at least twice the maximum pressure to which they will be subjected under the anticipated operating conditions.

* * * * *

PART 193—LIQUEFIED NATURAL GAS FACILITIES: FEDERAL SAFETY STANDARDS

5. The authority citation for part 193 continues to read as follows:

Authority: 49 U.S.C. 5103, 60102, 60103, 60104, 60108, 60109, 60110, 60113, 60118; and 49 CFR 1.53.

§ 193.2321 [Amended]

6. In § 193.2321, amend paragraph (b)(1) by removing “(incorporated by reference, see § 193. 2012)” and adding in its place “(incorporated by reference, see § 193.2013).”

PART 195—TRANSPORTATION OF HAZARDOUS LIQUIDS BY PIPELINE

7. The authority citation for part 195 continues to read as follows:

Authority: 49 U.S.C. 5103, 60102, 60104, 60108, 60109, 60116, 60118 and 60137; and 49 CFR 1.53.

§§ 195.132, 195.205, 195.264, 195.405, and 195.432 [Amended]

8. In 49 CFR part 195, remove “(incorporated by reference, see § 195.3)” and add in its place “(incorporated by reference, see § 195.3)” everywhere it appears in the following sections:

a. Section 195.132(b)(1);

b. Section 195.205(b)(1) and (2);

c. Section 195.264(b)(2) and (e)(1) and (3);

d. Section 195.405(b); and

e. Section 195.432(c).

Issued in Washington, DC, on July 24, 2015, under authority delegated in 49 CFR Part 1.97.
Stacy Cummings,
Interim Executive Director.

[FR Doc. 2015-18565 Filed 8-5-15; 8:45 am]

BILLING CODE 4910-60-P